DEPARTMENT OF ENERGY

Federal Energy Regulatory Commission

[Docket Nos. CP13-25-000 and Docket No. PF 12-13-000; Docket Nos. CP13-27-000 and Docket No. PF12-12-000]

Cameron LNG, LLC; Cameron Interstate Pipeline, LLC; Notice of Applications

Take notice that on December 7, 2012, Cameron LNG, LLC (Cameron LNG), 101 Ash Street, San Diego, California 92101, filed in Docket No. CP13-25-000 an application, pursuant to section 3 of the Natural Gas Act (NGA) and Part 153 of the Commission's regulations, for authorization to site, construct, and operate new liquefaction and export facilities in Cameron and Calcasieu Parishes, Louisiana (Liquefaction Project). Also take notice that on December 14, 2012, Cameron Interstate Pipeline, LLC (Cameron Interstate), 101 Ash Street, San Diego, California 92101, filed in Docket No. CP13-27-000 an application, pursuant to section 7(c) of the NGA and Parts 157 and 284 of the Commission's regulations, for authorization to construct and operate additional loop pipeline, compression and metering facilities in Beauregard, Calcasieu, and Cameron Parishes (Pipeline Project), all as more fully set forth in the application which is on file with the Commission and open to public inspection.

Specifically, Cameron LNG requests authorization to construct three liquefaction trains with a total production capacity of 12 million metric tones per annum (MPTA) of LNG, a fourth storage tank, electrical power generation and other facilities within the site of and adjacent to its existing LNG terminal. Cameron LNG anticipates placing the first train into service in July 2017 and the last in July 2018 for a total capability to export approximately 1.7 billion cubic feet per day (Bcfd) of domestic natural gas. Cameron Interstate requests authorization to construct 21 miles of 42-inch diameter pipeline looping its existing system, a new 56,820 horsepower compressor station in Calcasieu Parish, a new pipeline interconnection and modifications to four other interconnections as well as metering facilities at the Cameron LNG terminal. The cost of the pipeline project is estimated to be approximately $286.5 million. Upon completion, the proposed pipeline facilities will allow reversal of flow north to south on Cameron Interstate's system to provide up to 2.33 Bcfd of domestic natural gas supply to Cameron LNG's liquefaction facilities. Cameron Interstate proposes to charge incremental rates for the new north to south transportation service and requests waiver of the Commission's regulations to, among other things, update its pro forma rates as the time for commencement of service to reflect actual costs and to substitute such updated rates for those provided in the application. Cameron LNG and Cameron Interstate request issuance of an order by October 1, 2013 granting the authorizations requested.

Any questions regarding either Cameron LNG's application in Docket No. CP13-25-000 or Cameron Interstate's application in Docket No. CP13-27-000 should be directed to counsel representing both companies, William D. Rapp, 101 Ash Street, San Diego, California 92101, or phone (619)699-5050, or email wrapp@sempraglobal.com.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

On May 9, 2012, the Commission staff granted Cameron LNG's request to utilize the Pre-Filing Process and assigned Docket No. PF12-13 to staff activities involved with Cameron LNG's Liquefaction Project. Now, as of the filing of the application on December 7, 2012, the Pre-Filing Process for this project has ended. From this time forward, this proceeding will be conducted in Docket No. CP13-25-000, as noted in the caption of this Notice.

On May 9, 2012, the Commission staff also granted Cameron Interstate's request to utilize the Pre-Filing Process and assigned Docket No. PF12-12 to staff activities involved with Cameron Interstate's related Pipeline Project. Now, as of the filing of the application on December 14, 2012, the Pre-Filing Process for this project has ended. From this time forward, this proceeding will be conducted in Docket No. CP13-27-000, as noted in the caption of this Notice.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit an original and 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper, using the “eFiling” link at http://www.ferc.gov. Persons unable to file electronically should submit an original and 7 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on January 16, 2013.

Dated: December 26, 2012.
Kimberly D. Bose,
Secretary.

[FR Doc. 2013-00023 Filed 1-4-13; 8:45 am]

BILLING CODE 6717-01-P